DEPARTMENT OF LABOR

Office of the Secretary

Agency Information Collection Activities; Submission for OMB Review; Comment Request; Pre-Apprenticeship Database

ACTION: Notice.

SUMMARY: The Department of Labor (DOL) is submitting the Employment and Training Administration (ETA) sponsored information collection request (ICR) proposal titled, “Pre-Apprenticeship Database,” to the Office of Management and Budget (OMB) for review and approval for use in accordance with the Paperwork Reduction Act (PRA) of 1995 (44 U.S.C. 3501 et seq.). Public comments on the ICR are invited.

DATES: The OMB will consider all written comments that agency receives on or before May 11, 2015.

ADDRESSES: A copy of this ICR with applicable supporting documentation; including a description of the likely respondents, proposed frequency of response, and estimated total burden may be obtained free of charge from the RegInfo.gov Web site at http://www.reginfo.gov/public/do/PRAViewICR?ref_nbr=201409-1205-002 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: This ICR seeks PRA authority for the Pre-Apprenticeship Database information collection that will provide a valuable tool for job seekers, registered apprenticeship program sponsors, and American Job Center front line staff. A dedicated database will also provide a way for job seekers and registered apprenticeship programs to access pre-apprenticeship programs in their local areas. The Application for Pre-Apprenticeship Programs asks the program (1) for contact information including the program name, program director and an alternate point of contact; (2) about the population served and whether the pre-apprenticeship program has a direct link to a registered apprenticeship program as well as information on the nature of any direct link or partnership; (3) about the curriculum, whether a registered apprenticeship program or industry provided input into the pre-apprenticeship program's development, whether the training may lead to a credential or certificate, and whether a registered apprenticeship program has approved the training; and (4) about other services the pre-apprenticeship program provides to participants (i.e., supportive services beyond training to the most-in-need participants), any skill assessments conducted, case manager availability, whether the program is structured to offer a real work environment, industries the program services, and the occupation(s) for which training is offered. National Apprenticeship Act of 1937 section 1 authorizes this information collection. See 29 U.S.C. 50.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on November 25, 2014 (79 FR 70205).

Interested parties are encouraged to send comments to the OMB, Office of Information and Regulatory Affairs at the address shown in the ADDRESSES section within thirty (30) days of publication of this notice in the Federal Register. In order to help ensure appropriate consideration, comments should mention OMB ICR Reference Number 201409-1205-002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Pre-Apprenticeship Database.

OMB ICR Reference Number: 201409-1205-002.

Affected Public: Private Sector—businesses or other for-profits and not-for-profit institutions.

Total Estimated Number of Respondents: 200.

Total Estimated Number of Responses: 300.

Total Estimated Annual Time Burden: 33 hours.

Total Estimated Annual Other Costs Burden: $0.

Dated: April 6, 2015.
Michel Smyth,
Departmental Clearance Officer.

[FR Doc. 2015-08247 Filed 4-9-15; 8:45 am]

BILLING CODE 4510-FR-P